DEPARTMENT OF THE TREASURY

Internal Revenue Service

Open Meeting of the Taxpayer Advocacy Panel Taxpayer Communications Project Committee

AGENCY: Internal Revenue Service (IRS) Treasury.

ACTION: Notice of meeting.

SUMMARY: An open meeting of the Taxpayer Advocacy Panel Taxpayer Communications Project Committee will be conducted. The Taxpayer Advocacy Panel is soliciting public comments, ideas, and suggestions on improving customer service at the Internal Revenue Service.

DATES: The meeting will be held Thursday, March 27, 2014, through Friday, March 28, 2014.

FOR FURTHER INFORMATION CONTACT: Ellen Smiley or Patti Robb at 1-888-912-1227 or 414-231-2360.

SUPPLEMENTARY INFORMATION: Notice is hereby given pursuant to Section 10(a)(2) of the Federal Advisory Committee Act, 5 U.S.C. App. (1988) that an open meeting of the Taxpayer Advocacy Panel Taxpayer Communications Project Committee will be held Thursday, March 27, 2014, from 8:00 a.m. to 4:30 p.m., and Friday, March 28, 2014, from 8:00 a.m. to 12:00 p.m. Eastern Time. The public is invited to make oral comments or submit written statements for consideration. Notification of intent to participate must be made with Ms. Ellen Smiley or Ms. Patti Robb. For more information please contact Ms. Smiley or Ms. Robb at 1-888-912-1227 or 414-231-2360, or write TAP Office Stop 1006MIL, 211 West Wisconsin Avenue, Milwaukee, WI 53203-2221, or post comments to the Web site: http://www.improveirs.org.

The committee will be discussing various issues related to Taxpayer Communications and public input is welcome.

Dated: February 20, 2014.
Otis Simpson,
Acting Director, Taxpayer Advocacy Panel.

[FR Doc. 2014-04355 Filed 2-27-14; 8:45 am]

BILLING CODE 4830-01-P